ELECTION ASSISTANCE COMMISSION

Sunshine Act Notice

AGENCY: United States Election Assistance Commission.

ACTION: Notice of Public Meeting and Hearing

Date and Time: Wednesday, April 30, 2008, 10 a.m.—1 p.m.

Place: U.S. Election Assistance Commission, 1225 New York Ave., NW., Suite 150, Washington, DC 20005 (Metro Stop: Metro Center).

Agenda: The Commissioners will consider the following items: Whether to modify Advisory Opinion 07-003-A regarding Maintenance of Effort (MOE) funding, pursuant to HAVA Section 254 (a)(7); whether to update the Michigan state instructions on the national voter registration form. Commissioners will receive a briefing regarding HAVA State Plans. Commissioners will hold a fact gathering hearing regarding Iowa's audit appeal, as part of the audit appeal process established by the Commission. The Commission will consider other administrative matters.

This Meeting Will Be Open to the Public

Person to Contact for Information: Bryan Whitener, Telephone: (202) 566-3100.

* * * * *

Thomas R. Wilkey,
Executive Director, U.S. Election Assistance Commission.

[FR Doc. E8-9279 Filed 4-28-08; 8:45 am]

BILLING CODE 6820-KF-M